DEPARTMENT OF HEALTH AND HUMAN SERVICES

Indian Health Service

Proposed Information Collection: Request for Public Comment: 30-Day Notice

AGENCY: Indian Health Service, HHS.

ACTION: Request for public comment: 30-day proposed collection; Hoz'ho'nii: An Intervention to Increase Breast and Cervical Cancer Screening Among Navajo Women.

SUMMARY: In compliance with section 3506(c)(2)(A) of the Paperwork Reduction Act of 1995, for opportunity for public comment on proposed information collection projects, the Indian Health Service (IHS) has submitted to the Office of Management and Budget (OMB) a request to review and approve the information collection listed below. This proposed information collection project was previously published in the Federal Register (66 FR 66912) on February 9, 2004 and allowed 60 days for public comment. No public comment was received in response to the notice. The purpose of this notice is to allow 30 days for public comment to be submitted directly to OMB.

Proposed Collection

Title: Hoz'ho'nii: An Intervention to Increase Breast and Cervical Cancer Screening Among Navajo Women.

Type of Information Collection Request: Previously Approved Collection.

Form Number: None.

Need and Use of the Information Collection: The information is needed to evaluate a culturally appropriate educational outreach program designed to increase breast and cervical cancer screening among Navajo women ages 20 and older. The purpose is to identify barriers that may prevent Navajo women from participating in breast and cervical cancer screening by comparing changes in knowledge, attitudes, and behaviors of three study groups; educational outreach only, education outreach plus chapter-based clinic, and a control group. Results will be used to assess the impact of the educational outreach program, improve breast and cervical cancer screening, and to guide the IHS and Tribal health programs in the delivery of culturally appropriate intervention to reduce mortality rates from breast and cervical cancer among Navajo women.

Affected Public: Individuals.

Type of Respondents: Individuals.

Table below provides the estimated burden response for this information collection:

Estimated Burden Response Table
Data collection instrument | Estimated No. of respondents | Responses per respondent | Average burden hour per response* | Total annual burden hours
KAB Pretest | 450 | 1 | 0.42 hr (25 minutes) | 188.0
KAB Post test | 450 | 1 | 0.42 hr (25 minutes) | 188.0
Interviews | 30 | 1 | 0.25 hr (15 minutes) | 8.0
Total | 930 | 1 |  | 384.0
* For ease of understanding, burden hours are also provided in actual minutes.

There are no Capital Costs, Operating Costs and/or Maintenance Costs to report for this information collection.

Request for Comments: Your written comments and/or suggestions are invited on one or more of the following points: (a) Whether the information collection activity is necessary to carry out an agency function; (b) whether the IHS processes the information collected in a useful and timely fashion; (c) the accuracy of the public burden estimate (the estimated amount of time needed for individual respondents to provide the requested information); (d) whether methodology and assumptions used to determine the estimate are logical; (e) ways to enhance the quality, utility, and clarity of the information being collected; and (f) ways to minimize the public burden through the use of automated, electronic, mechanical, or other technological collection techniques or other forms of information technology.

Direct Comments to OMB: Send your written comments and suggestions regarding the proposed information collection contained in this notice, especially regarding the estimated public burden and associated response time, to: Office of Management and Budget, Office of Regulatory Affairs, New Executive Office Building, Room 10235, Washington, DC 20503, Attention: Desk Officer for IHS.

To request more information on the proposed collection or to obtain a copy of the data collection plan(s) and/or instruction(s), contact: Ms. Christina Ingersoll, IHS Reports Clearance Officer, 12300 Twinbrook Parkway, Suite 450, Rockville, MD 20852.1601, or call non-toll free (301) 443-5938, or send via facsimile to (301) 443-2613, or send your E-mail requests, comments, and return address to: cingerso@hqe.ihs.gov.

Comment Due Date: Comments regarding this information collection are best assured of having their full effect if received within 30-days of the date of this publication.

Dated: April 2, 2004.
Eugenia Tyner-Dawson,
Acting Deputy Director, Indian Health Service.

[FR Doc. 04-9155 Filed 4-21-04; 8:45 am]

BILLING CODE 4160-16-M